DEPARTMENT OF DEFENSE

Office of the Secretary

[Docket ID DOD-2011-OS-0110]

Privacy Act of 1974; System of Records

AGENCY: Office of the Secretary of Defense, Department of Defense (DoD).

ACTION: Notice to Add a System of Records.

SUMMARY: The Office of the Secretary of Defense proposes to add a system of records to its inventory of record systems subject to the Privacy Act of 1974 (5 U.S.C. 552a), as amended.

DATES: This proposed action would be effective without further notice on November 14, 2011 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on October 5, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 6, 2011.
Aaron Siegel,
Alternate OSD Federal Register Liaison Officer, Department of Defense.

DHA 22

System name:

Medical Situational Awareness in the Theater (MSAT).

System location:

Office of the Assistant Secretary of Defense for Health Affairs, Force Health Protection & Readiness, Skyline 4, Suite 901, 5113 Leesburg Pike, Falls Church, VA 22041-3226.

Categories of individuals covered by the system:

Members of the uniformed services and DoD civilian employees (to include non-appropriated fund employees) who receive or have received medical or dental care at one or more DoD medical treatment facilities in an active theater of operations.

Categories of records in the system:

Individual's name, age, date of birth, Social Security Number (SSN) and/or DoD Identification (DoD ID) number, marital status, phone number, address, race, pay grade, personnel code, mobilization status, unit identification, and unit phone number.

An individual's Trauma Number, Register Number, and patient encounter data pertaining to symptoms; International Classification of Diseases (ICD) diagnosis codes; clinical data elements and codes with respect to symptoms, medical history, physical examination, tests, diagnosis, and therapy, medications, and vital signs; and treatment facility locations.

Authority for maintenance of the system:

10 U.S.C. Chapter 55, Medical and Dental Care; and E.O. 9397 (SSN), as amended.

Purpose(s):

To provide information to medical commanders and their staff on personnel readiness status before and during deployment and sustainment, patient tracking from initial point of care and en route to CONUS military treatment facilities, medical surveillance of illnesses, injury rates and trends for theater, syndromic, and chemical, biological, radiological, and nuclear surveillance of individuals for early warning alerts.

To provide information that, when combined with medical intelligence, patient tracking, geospatial mapping, logistics, personnel, and other information, supports a single identical display of relevant information shared by more than one command to facilitate collaborative planning and to assist all echelons in achieving situational awareness, and for assisting the Combatant Command and Joint Task Force Surgeon in assessing risks, mitigating operational vulnerabilities, and allocating scarce combat resources during the planning and conduct of operations.

Routine uses of records maintained in the system, including categories of users and the purposes of such uses:

In addition to those disclosures generally permitted under 5 U.S.C. 552a(b) of the Privacy Act of 1974, as amended, these records may specifically be disclosed outside the DoD as a routine use pursuant to 5 U.S.C. 552a(b)(3).

The DoD `Blanket Routine Uses' set forth at the beginning of the Office of the Secretary of Defense (OSD) compilation of systems of records notices apply to this system.

Note 1: This system of records contains individually identifiable health information. The DoD Health Information Privacy Regulation (DoD 6025.18-R), issued pursuant to the Health Insurance Portability and Accountability Act of 1996 and 45 CFR Parts 160 and 164, Health and Human Services, General Administrative Requirements and Security & Privacy, respectively, applies to most such health information. DoD 6025.18-R may place additional procedural requirements on the uses and disclosures of such information beyond those found in the Privacy Act of 1974, as amended, or mentioned in this system of records notice.

Note 2: Personal identity, diagnosis, prognosis or treatment information of any patient maintained in connection with the performance of any program or activity relating to substance abuse education, prevention, training, treatment, rehabilitation, or research, which is conducted, regulated, or directly or indirectly assisted by any department or agency of the United States is, except as per 42 U.S.C. 290dd-2, treated as confidential and disclosed only for the purposes and under the circumstances expressly authorized under 42 U.S.C. 290dd-2.

Policies and practices for storing, retrieving, accessing, retaining, and disposing of records in the system:

Storage:

Electronic storage media.

Retrievability:

Individual's name, date of birth, Trauma Number, Register Number, SSN and/or DoD ID Number, or any combination of the above.

Safeguards:

Electronic media, data and/or electronic records are maintained in a controlled area. The computer system is accessible only to authorized personnel. Entry into these areas is restricted to those personnel with a valid requirement and authorization to enter. Physical entry is restricted by the use of locks, passwords which are changed periodically, and administrative procedures.

The system provides two-factor authentication including Common Access Cards (CAC) and user ID/passwords. Access to personal information is restricted to those who require the data in the performance of their official duties. All personnel whose official duties require access to the information are trained in the proper safeguarding and use of the information.

Retention and disposal:

Disposition pending (until the National Archives and Records Administration approves retention and disposal schedule, records will be treated as permanent).

System manager(s) and address:

Product Manager, MSAT, Defense Health Information Management System, Skyline 4, Suite 700, 5113 Leesburg Pike, Falls Church, VA 22041-3226.

Notification procedure:

Individuals seeking to determine whether information about themselves is contained in this system of record should address written inquiries to the TRICARE Management Activity, Department of Defense, ATTN: TMA Privacy Officer, Suite 810, 5111 Leesburg Pike, Falls Church, VA 22041-3206.

Requests should contain the individual's full name and SSN and/or DoD ID Number.

Record access procedures:

Individuals seeking access to records about themselves contained in this system of record should address written inquiries to TRICARE Management Activity, Attention: Freedom of Information Act Requester Service Center, 16401 East Centretech Parkway, Aurora, CO 80011-9066.

Requests should contain the individual's full name, SSN and/or DoD ID Number, the name and number of this system of records notice, and be signed.

Contesting record procedures:

The OSD rules for accessing records, for contesting contents and appealing initial agency determinations are published in OSD Administrative Instruction 81, 32 CFR Part 311, or may be obtained from the system manager.

Record source categories:

Theater Medical Data Store, AHLTA—Theater, and Theater Medical Information Program Cache.

Exemptions claimed for the system:

None.

[FR Doc. 2011-26306 Filed 10-11-11; 8:45 am]

BILLING CODE 5001-06-P